ENVIRONMENTAL PROTECTION AGENCY

[ER-FRL-9052-4]

Environmental Impact Statements; Notice of Availability

Responsible Agency: Office of Federal Activities, General Information 202-564-5632 or https://www.epa.gov/nepa.

Weekly receipt of Environmental Impact Statements (EIS)

Filed August 10, 2020, 10 a.m. EST Through August 17, 2020, 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200168, Draft, FAA, CA,Bob Hope Hollywood Burbank Airport Replacement Passenger Terminal Project, Comment Period Ends: 10/05/2020, Contact: Edvige B. Mbakoup 424-405-7283.

EIS No. 20200169, Final, USAF, TX,F-35A Operational Beddown—Air Force Reserve Command, Review Period Ends: 09/21/2020, Contact: Mr. Hamid Kamalpour 210-925-273.

EIS No. 20200170, Draft, FAA, NY,LaGuardia Airport Access Improvement Project, Comment Period Ends: 10/05/2020, Contact: Andrew Brooks 718-553-2511.

EIS No. 20200171, Final, USACE, CA,Malibu Creek Ecosystem Restoration Study, Review Period Ends: 09/21/2020, Contact: Larry Smith 213-452-3846.

Amended Notice

EIS No. 20200165, Draft, USFS, ID,Stibnite Gold Project, Comment Period Ends: 10/13/2020, Contact: Brian Harris 208-634-6945.

Revision to FR Notice Published 08/14/2020; Correction to Comment Period Due Date from September 28, 2020 to October 13, 2020; Correction to Lead Agency Contact Phone Number from 208-879-6945 to 208-634-6945.

Dated: August 17, 2020.
Cindy S. Barger,
Director, NEPA Compliance Division, Office of Federal Activities.

[FR Doc. 2020-18367 Filed 8-20-20; 8:45 am]

BILLING CODE 6560-50-P